DEPARTMENT OF TRANSPORTATION

Federal Railroad Administration

Solicitation of Applications and Notice of Funding Availability for the FRA Railroad System Issues Research and Development Program

AGENCY: Federal Railroad Administration (FRA), Department of Transportation (DOT).

ACTION: Notice of funding availability; extension of deadline on solicitation for applications.

SUMMARY: Under a notice published in the Federal Register on May 13, 2010 (75 FR 27112), the FRA sought applications from interested and responsible parties for two grants: to conduct a Locomotive Biofuel Study, and to conduct a Study of the Use of Bio-based Technologies (Lubricants) that can be used in locomotives, rolling stock and other rail equipment. The application deadline was June 7, 2010. FRA is extending the deadline until June 21, 2010 to give applicants additional time to complete the application process and submit applications.

DATES: FRA will accept applications for these grant opportunities until June 21, 2010.

ADDRESSES: Applications must be submitted electronically to http://www.grants.gov (“Grants.gov”). Grants.gov allows organizations electronically to find and apply for competitive grant opportunities from all Federal grant-making agencies. Any entity wishing to submit an application pursuant to this notice should immediately initiate the process of registering with Grants.gov at http://www.grants.gov.

FOR FURTHER INFORMATION CONTACT: Melissa Shurland, Office of Research and Development, Federal Railroad Administration, 1200 New Jersey Avenue, SE., Washington, DC 20590. Phone: (202) 493-1316; or Jennifer Capps, Grants Officer, Office of Acquisition and Grants Services, Federal Railroad Administration, 1200 New Jersey Avenue, SE., Washington, DC 20590. Phone: (202) 493-0112.

SUPPLEMENTARY INFORMATION: This notice simply extends the application deadline for the two grant programs: (1) To conduct a Locomotive Biofuel Study, and (2) to conduct a Study of the Use of Bio-based Technologies (Lubricants) that can be used in locomotives, rolling stock and other rail equipment. The new application deadline is June 21, 2010. Interested applicants should consult the notice published on May 13, 2010 in the Federal Register (75 FR 27112) for additional details about the program and the application process.

Issued in Washington, DC, on June 10, 2010.
Mark Yachmetz,
Associate Administrator, Office of Railroad Policy and Development.

[FR Doc. 2010-14478 Filed 6-11-10; 4:15 pm]

BILLING CODE 4910-06-P